DEPARTMENT OF STATE

[Public Notice: 12108]

Privacy Act of 1974; System of Records

AGENCY: Department of State.

ACTION: Rescindment of a system of records notice.

SUMMARY: The Email Archive Management Records, State-01, which is being rescinded, captures all emails and attachments that interact with a Department of State email account and stores them in a secure repository that allows for search, retrieval, and view when necessary. Additionally, the Department of State, by separate Federal Register notice, will also be rescinding the Final Rule associated with State-01.

DATES: On December 12, 2017, the Department of State published a notice in the Federal Register (82 FR 58477) creating Email Archive Management Records, State-01.

ADDRESSES: Questions can be submitted by mail, email, or by calling Eric F. Stein, the Senior Agency Official for Privacy on (202) 485-2051. If mail, please write to: U.S Department of State; Office of Global Information Systems, A/GIS; Room 4534, 2201 C St. NW, Washington, DC 20520. If email, please address the email to the Senior Agency Official for Privacy, Eric F. Stein, at Privacy@state.gov. Please write “Email Archive Management Records, State-01” on the envelope or the subject line of your email.

FOR FURTHER INFORMATION CONTACT: Eric F. Stein, Senior Agency Official for Privacy; U.S. Department of State; Office of Global Information Services, A/GIS; Room 4534, 2201 C St. NW, Washington, DC 20520 or by calling on (202) 485-2051.

SUPPLEMENTARY INFORMATION: Email Archive Management Records, State-01 must be rescinded because the characteristics of the system as it exists do not render the eRecords Archive a system of records within the meaning of 5 U.S.C. 552a. The millions of emails, diplomatic cables, and other files that the system ingests are not “records” as defined by section 552a(a)(4), as they are not grouped by personal identifier and are not records “about” the individuals incidentally mentioned in the files. eRecords is not a “system of records” as defined by section 552a(a)(5) because it (1) does not index files by personal identifier and (2) is not used to retrieve data by using a personal identifier. Information collected incidentally through eRecords is included in other “systems of records.”

SYSTEM NAME AND NUMBER:

Email Archive Management Records, State-01.

HISTORY:

Email Archive Management Records, State-01, was previously published at 85 FR 13482.

Eric F. Stein,
Deputy Assistant Secretary, Global Information Services (A/GIS), U.S. Department of State.

[FR Doc. 2023-14351 Filed 7-6-23; 8:45 am]

BILLING CODE 4710-24-P